INTERNATIONAL TRADE COMMISSION

[USITC SE-06-062]

Sunshine Act Meeting Notice

Agency Holding the Meeting: United States International Trade Commission.

Time and Date: December 15, 2006 at 11 a.m.

Place: Room 101, 500 E Street SW., Washington, DC 20436. Telephone: (202) 205-2000.

Status: Open to the public.

Matters To Be Considered

1. Agenda for future meetings: none.

2. Minutes.

3. Ratification List.

4. Inv. Nos. 701-TA-444-446 and 731-TA-1107-1109 (Preliminary)(Coated Free Sheet Paper from China, Indonesia, and Korea)—briefing and vote. (The Commission is currently scheduled to transmit its determination to the Secretary of Commerce on December 15, 2006; Commissioners' opinions are currently scheduled to transmit its determination to the Secretary of Commerce on or before December 22, 2006.).

5. Outstanding action jackets: none.

In accordance with Commission policy, subject matter listed above, not disposed of at the scheduled meeting, may be carried over to the agenda of the following meeting.

By order of the Commission.
Issued: December 4, 2006.
Marilyn R. Abbott,
Secretary to the Commission.

[FR Doc. 06-9578 Filed 12-4-06; 11:43 am]

BILLING CODE 7020-02-P